DEPARTMENT OF HOMELAND SECURITY

Transportation Security Administration

Extension of Agency Information Collection Activity Under OMB Review: Exercise Information System (EXIS)

AGENCY: Transportation Security Administration, DHS.

ACTION: 30-day Notice.

SUMMARY: This notice announces that the Transportation Security Administration (TSA) has forwarded the Information Collection Request (ICR), Office of Management and Budget (OMB) control number 1652-0057, abstracted below to OMB for review and approval of an extension of the currently approved collection under the Paperwork Reduction Act (PRA). The ICR describes the nature of the information collection and its expected burden. TSA published a Federal Register notice, with a 60-day comment period soliciting comments, of the following collection of information on May 1, 2014 (79 FR 24742). EXIS is a web portal designed to serve stakeholders in the transportation industry in regard to security training exercises. EXIS provides stakeholders with transportation security exercise scenarios and objectives, best practices and lessons learned, and a repository of the user's own historical exercise data for use in future exercises. It also allows stakeholders to design their own security exercises based on the unique needs of their specific transportation mode or method of operation. Utilizing and inputting information into EXIS is completely voluntary.

DATES: Send your comments by August 20, 2014. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Exercise Information System (EXIS).

Type of Request: Extension of a currently approved collection.

OMB Control Number: 1652-0057.

Forms(s): N/A.

Affected Public: Transportation System Sector.

Abstract: The Exercise Information System (EXIS) is a voluntary, online tool developed by TSA to support the mission of a program developed and implemented by TSA to fulfill requirements of the Implementing Recommendations of the 9/11 Commission Act of 2007 (911 Act) ¹ and the Security and Accountability For Every Port Act of 2006.² These statutory programs led to the development of the Intermodal Security Training Exercise Program (I-STEP) for the Transportation Systems Sector (TSS). Within the I-STEP program, EXIS is an interactive resource for the TSS.

¹ Public Law 110-53, 121 Stat. 408 (Aug. 3, 2007).

² Public Law 109-347, 120 Stat. 1895-96 (Oct. 13, 2006) (codified at 6 U.S.C. 912).

Number of Respondents: 12,998 for the next three years.

Estimated Annual Burden Hours: An estimated 6,072 hours annually.

Dated: July 15, 2014.
Christina A. Walsh,
TSA Paperwork Reduction Act Officer, Office of Information Technology.

[FR Doc. 2014-17129 Filed 7-18-14; 8:45 am]

BILLING CODE 9105-05-P